DEPARTMENT OF TRANSPORTATION

Federal Aviation Administration

Notice of Intent To Request Revision From the Office of Management and Budget of a Currently Approved Information Collection Activity, Request for Comments; Pilot Training and Experience With Transport Category Rudder Control Systems

AGENCY: Federal Aviation Administration (FAA) DOT.

ACTION: Notice and request for comments.

SUMMARY: The FAA invites public comments about our intention to request the Office of Management and Budget (OMB) to approve a current information collection. The FAA has undertaken an effort to improve aviation safety by collecting data on pilots training and experience with transport category rudder control systems.

DATES: Please submit comments by October 10, 2006.

FOR FURTHER INFORMATION CONTACT: Carla Mauney on (202) 267-9895, or by e-mail at: Carla.Mauney@faa.gov.

SUPPLEMENTARY INFORMATION:

Federal Aviation Administration (FAA)

Title: Pilot Training and Experience with Transport Category Rudder Control Systems.

Type of Request: Revision of an approved collection.

OMB Control Number: 2120-0712.

Forms(s): There are no FAA forms associated with this collection.

Affected Public: A total of 1,000 Respondents.

Frequency: The information is collected one time per respondent.

Estimated Average Burden Per Response: Approximately 30 minutes per response.

Estimated annual Burden Hours: An estimated 500 hours annually.

Abstract: The FAA has undertaken an effort to improve aviation safety by collecting data on pilots training and experience with transport category rudder control systems.

ADDRESSES: Send comments to the FAA at the following address: Ms. Carla Mauney, Room 1033, Federal Aviation Administration, Information Systems and Technology Services Staff, ABA-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Dated: Issued in Washington, DC, on August 3, 2006.
Carla Mauney,
FAA Information Collection Clearance Officer, Information Systems and Technology Services Staff, ABA-20.

[FR Doc. 06-6859 Filed 8-10-06; 8:45 am]

BILLING CODE 4910-13-M